DEPARTMENT OF THE INTERIOR

Bureau of Land Management

[12X L5413AR LLUTG01000 L12320000.FV0000 LVRDUT230000]

Notice of Temporary Closure for Selected Public Lands in Uintah County, UT

AGENCY: Bureau of Land Management, Interior.

ACTION: Notice of temporary closure.

SUMMARY: Notice is hereby given that a temporary closure is in effect on public lands administered by the Vernal Field Office, Bureau of Land Management (BLM) during the 2014 No Gimmicks Racing Half-Marathon Event.

DATES: This temporary closure will be in effect from 6 a.m. to 5 p.m., July 12, 2014, Mountain Time.

FOR FURTHER INFORMATION CONTACT: Jason West, Outdoor Recreation Planner, telephone 435-781-4501 or the BLM Vernal Field Office, 170 South, 500 East, Vernal, UT 84078. Persons who use a telecommunications device for the deaf (TDD) may call the Federal Information Relay Service (FIRS) at 1-800-877-8339 to leave a message or question for the above individual. The FIRS is available 24 hours a day, seven days a week. Replies are provided during normal business hours.

SUPPLEMENTARY INFORMATION: This temporary closure effects selected public lands within the McCoy Flats designated mountain bike trail system and trailhead, approximately 5 miles southwest of Vernal in Uintah County, Utah. The BLM McCoy Flats Trailhead and Day-Use Area will remain open for access to additional trails in the area. Four trails of the McCoy Flats Trail System will be closed to the public to accommodate the race, including the beginning of the Milk trail, the entire Retail Sale and Slippery When Wet Trails and a connecting trail from the trailhead to the Retail Sale Trail. The legal description of the affected public lands is:

Salt Lake Meridian, Utah

T. 5 S., R. 21 E.,

Secs. 29 to 33, inclusive.

T. 6 S., R. 21 E.,

Secs. 5 and 6.

The areas described, including both public and non-public land, aggregate approximately 14 miles of single-track, multiple-use trails of between 18 and 36 inches in width.

The McCoy Flats Road will not be closed; however, a volunteer will be stationed between the Highway 40 access point and the race start to advise anyone traveling on the road that a race event is in progress. Flagging and/or other notifications will be utilized at the point where the race crosses the road to allow for racers to cross safely.

The temporary closure is necessary to provide for the safety of participants, spectators, permittees and the general public. The closure will also prevent unnecessary environmental degradation and protect natural and cultural resources adjacent to the event site.

The BLM will post closure signs at main entry points to the area. This closure order will be posted in the BLM-Vernal Field Office. Maps of the affected area and other documents associated with this closure are available at the BLM-Vernal Field Office at 170 South 500 East, Vernal, UT 84078.

Under the authority of Section 303(a) of the Federal Land Policy and Management Act of 1976 (43 U.S.C. 1733(a)), 43 CFR 8360.0-7, and 43 CFR 8364.1, the BLM will enforce the following closure orders within the closure area:

Unless otherwise authorized, within the closure area no person shall:

• Camp or engage in camping in any area outside of the designated spectator areas;

• Enter any portion of the race course or any wash located within or adjacent to the race course;

• Discharge any firearm or weapon;

• Park, stop, or stand along the race course or other areas outside of the designated spectator viewing areas;

• Park any vehicle in violation of posted restrictions, or in such a manner as to obstruct or impede normal or emergency traffic movement or the parking of other vehicles, create a safety hazard, or endanger any person, property or feature. Vehicles so parked are subject to citation, removal and impoundment at owner's expense; or

• Take, drive, or operate any vehicle through, around or beyond a restrictive sign, barricade, fence or traffic control barrier or device.

Exceptions to Closure

1. Any Federal, State, or local officer or employees in the scope of their official duties;

2. Members of any organized rescue or firefighting force in performance of an official duty;

3. Permitted vehicles necessary for staging, EMS station support and water stations;

4. Vehicles owned by the United States, the state of Utah, and Uintah County; and

5. Any person authorized in writing by the BLM-Utah Vernal Field Manager.

Effect of Closure

The entire area encompassed by the legal description above is closed to all unauthorized personnel and will be marked clearly as such on the ground prior to and during the event. Access routes leading to the designated race course are closed to vehicles and people and will be marked as such. Unless specifically addressed by regulations set forth in 43 CFR, the laws of the state of Utah shall govern the use and operation of vehicles. The authorized event organizer or their representatives, in conjunction with the BLM, will post warning signs, control access to and clearly mark, the race course, spectator areas, common access roads and road crossings during the closure period. Spectator and support vehicles may be driven on open roads only. Spectators may only observe from designated spectator areas. Support vehicles under permit for operation by event participants must follow the race permit stipulations.

Any person who violates the above rule(s) and/or restriction(s) may be tried before a United States Magistrate and fined no more than $1,000, imprisoned for no more than 12 months, or both. Such violations may also be subject to the enhanced fines provided for by 18 U.S.C. 3571.

Authority: 43 CFR 8364.1.

Jenna Whitlock,
Associate State Director.

[FR Doc. 2014-16577 Filed 7-14-14; 8:45 am]

BILLING CODE 4310-DQ-P